ENVIRONMENTAL PROTECTION AGENCY

[FRL-8937-4]

Access to Confidential Business Information by Science Applications International Corporation (SAIC) and Eastern Research Group (ERG)

AGENCY: Environmental Protection Agency (EPA).

ACTION: Notice of access to data.

SUMMARY: EPA will authorize its contractors, SAIC and ERG to access Confidential Business Information (CBI) which has been submitted to EPA under the authority of all sections of the Resource Conservation and Recovery Act (RCRA) of 1976, as amended. EPA has issued regulations (40 CFR part 2, subpart B) that outline business confidentiality provisions for the Agency and require all EPA Offices that receive information designated by the submitter as CBI to abide by these provisions.

DATES: Access to confidential data submitted to EPA will occur no sooner than August 10, 2009.

FOR FURTHER INFORMATION CONTACT: LaShan Haynes, Document Control Officer, Office of Resource Conservation and Recovery (5305P), U.S. Environmental Protection Agency, 1200 Pennsylvania Avenue, NW., Washington, DC 20460, (703) 605-0516.

SUPPLEMENTARY INFORMATION:

1. Access to Confidential Business Information

Under EPA Contracts No. EP-W-04-046 and EP-W-04-047, SAIC and ERG respectively, will assist the Office of Enforcement and Compliance Assurance, Office of Civil Enforcement with the development, litigation, and settlement of administrative and civil judicial cases against serious violators pursuant to CWA, CAA, RCRA, EPCRA, OPA, TSCA, and FIFRA. ORCR collects data from industry to support the RCRA hazardous waste regulatory program. Some of the data collected from industry are claimed by industry to contain trade secrets or CBI. In accordance with the provisions of 40 CFR Part 2, Subpart B, OSW has established policies and procedures for handling information collected from industry, under the authority of RCRA, including RCRA Confidential Business Information Security Manuals.

SAIC and ERG, shall protect from unauthorized disclosure all information designated as confidential and shall abide by all RCRA CBI requirements, including procedures outlined in the RCRA CBI Security Manual.

The U.S. Environmental Protection Agency has issued regulations (40 CFR part 2, subpart B) that outline business confidentiality provisions for the Agency and require all EPA Offices that receive information designated by the submitter as CBI to abide by these provisions. SAIC and ERG will be authorized to have access to RCRA CBI under the EPA “Contractor Requirements for the Control and Security of RCRA Confidential Business Information Security Manual.”

EPA is issuing this notice to inform all submitters of information under all sections of RCRA that EPA will provide SAIC and ERG, access to the CBI records located in the RCRA Confidential Business Information Center. Access to RCRA CBI under this contract will take place at EPA Headquarters only. Contractor personnel will be required to sign non-disclosure agreements and will be briefed on appropriate security procedures before they are permitted access to confidential information.

Dated: July 23, 2009.
Matthew Hale,
Director, Office of Resource Conservation and Recovery.

[FR Doc. E9-18199 Filed 7-29-09; 8:45 am]

BILLING CODE 6560-50-P